DEPARTMENT OF ENERGY

Federal Energy Regulatory Commission

[Project No. 308-007]

PacifiCorp Energy; Notice of Availability of Final Environmental Assessment

In accordance with the National Environmental Policy Act of 1969 and the Federal Energy Regulatory Commission's (Commission) regulations, 18 CFR part 380, the Office of Energy Projects has reviewed the application for subsequent license for the Wallowa Falls Hydroelectric Project, located on Royal Purple Creek and the East and West Forks of the Wallowa River in Wallowa County, Oregon, and has prepared a final Environmental Assessment (final EA) for the project. The project occupies 12 acres of federal lands administered by the United States Department of Agriculture, Forest Service.

The final EA contains the staff's analysis of the potential environmental effects of the project and concludes that relicensing the project, with appropriate environmental protective measures, would not constitute a major federal action that would significantly affect the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, contact Matt Cutlip at (503) 552-2762.

Dated: May 23, 2016.
Nathaniel J. Davis, Sr.,
Deputy Secretary.

[FR Doc. 2016-12762 Filed 5-31-16; 8:45 am]

BILLING CODE 6717-01-P